DEPARTMENT OF THE INTERIOR

Bureau of Ocean Energy Management

[OMB Control Number 1010-0006; Docket ID: BOEM-2017-0016]

Agency Information Collection Activities; Leasing of Sulfur or Oil and Gas in the Outer Continental Shelf

AGENCY: Bureau of Ocean Energy Management, Interior.

ACTION: Notice of information collection; request for comment.

SUMMARY: In accordance with the Paperwork Reduction Act of 1995, the Bureau of Ocean Energy Management (BOEM) is proposing this information collection request (ICR) to renew Control Number 1010-0006 with revisions.

DATES: Comments must be received by the Office of Management and Budget (OMB) no later than November 14, 2022.

ADDRESSES: Submit your written comments on this ICR to the OMB's desk officer for the Department of the Interior at www.reginfo.gov/public/do/PRAMain within 30 days of publication of this notice. From the www.reginfo.gov/public/do/PRAMain landing page, find this information collection by selecting “Currently under Review—Open for Public Comments” or by using the search function. Please provide a copy of your comments by parcel delivery to the BOEM Information Collection Clearance Officer, Anna Atkinson, Bureau of Ocean Energy Management, 45600 Woodland Road, Sterling, Virginia 20166; or by email to anna.atkinson@boem.gov. Please reference OMB Control Number 1010-0006 in the subject line of your comments. You may also comment by searching the docket number BOEM-2017-0016 at http://www.reginfo.gov/public/do/PRAMain.

FOR FURTHER INFORMATION CONTACT: Anna Atkinson by email at anna.atkinson@boem.gov or by telephone at 703-787-1025. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: “Leasing of Sulfur or Oil and Gas in the Outer Continental Shelf.”

Abstract: This ICR concerns the paperwork requirements in 30 CFR parts 550, 556, and 560. This ICR also concerns the use of forms to process bonds, transfer interest in leases, and file relinquishments.

The Outer Continental Shelf Lands Act, as amended (43 U.S.C. 1331 et seq.), authorizes the Secretary of the Interior to prescribe rules and regulations to administer leasing of the Outer Continental Shelf (OCS) and all operations conducted under a lease. Operations on the OCS must develop oil and natural gas resources in a manner that is consistent with the need to make such resources available to meet the Nation's energy needs; balance orderly energy resource development with protection of human, marine, and coastal environments; ensure the public a fair return on the resources of the OCS; and preserve and maintain free enterprise competition. Also, the Energy Policy and Conservation Act of 1975 prohibits certain lease bidding arrangements (42 U.S.C. 6213(a)).

OMB Control Number: 1010-0006.

Form Number:

• BOEM-0150, “Assignment of Record Title Interest in Federal OCS Oil and Gas Lease”;

• BOEM-0151, “Assignment of Operating Rights Interest in Federal OCS Oil and Gas Lease”;

• BOEM-0152, “Relinquishment of Federal OCS Oil and Gas Lease”;

• BOEM-2028, “Outer Continental Shelf (OCS) Mineral Lessee's or Operator's Bond”;

• BOEM-2028A, “Outer Continental Shelf (OCS) Mineral Lessee's or Operator's Supplemental Bond”; and

• BOEM-2030, “Outer Continental Shelf (OCS) Pipeline Right-of-Way Grant Bond”.

Type of Review: Revision of a currently approved information collection.

Respondents/Affected Public: Federal oil, gas, or sulfur lessees and operators; right-of-way grant holders.

Total Estimated Number of Annual Responses: 21,826 responses.

Total Estimated Number of Annual Burden Hours: 21,935 hours.

Respondent's Obligation: Mandatory or required to obtain or retain a benefit.

Frequency of Collection: On occasion or annual.

Total Estimated Annual Non-Hour Burden Cost: $766,053.

Estimated Reporting and Recordkeeping Hour Burden: We expect the burden estimate for the renewal will be 21,935 hours with 21,826 responses, which reflects an increase of 2,881 hours and 11,628 responses. One hour of the increase accounts for Alaska's surety bond submission (30 CFR 550.1011), which was not previously included in the annual burden hours. The remaining increase of 2,880 annual burden hours accounts for submissions of documents under 30 CFR 556.715 and 556.808. Under the current 1010-0006, BOEM accounted for the burden hours to file the requisite fees under 30 CFR 556.715 and 556.808 but did not account for the burden hours to submit the requisite documents.

The following table details the individual components and respective burden hour estimates of this ICR.

Burden Breakdown
30 CFR Part 550 Subpart J | Reporting requirement * | Hour burden: Non-hour cost burdens | Average number of annual responses | Annual burden hours
550.1011(a) | Provide surety bond (Form BOEM-2030) and required information | Gulf of Mexico 0.25 | 52 | 13
|  | Pacific 3.5 | 3 | 11
|  | Alaska 1 | 1 | 1
30 CFR 550, Subpart J, Total |  |  | 56 Responses | 25 hours

30 CFR Part 556 and NTLs | Reporting requirement * | Hour burden: Non-hour cost burdens | Average number of annual responses | Annual burden hours
Subpart A
104(b) | Submit confidentiality agreement | 0.25 | 500 | 125
106 | Cost recovery and service fees; confirmation receipt | Cost recovery and service fees and associated documentation are covered under individual requirements throughout part. ** |  | 0
107 | Submit required documentation electronically through BOEM-approved system; comply with filing specifications, as directed by notice in the Federal Register in accordance with 30 CFR 560.500 | Burden covered in 30 CFR 560.500 |  | 0
107 | File seals, documents, statements, signatures, etc., to establish legal status of all future submissions (paper or electronic) | 10 min | 400 | 67
Subtotal |  |  | 900 | 192
Subpart B
201-204 | Submit nominations, suggestions, comments, and information in response to requests for information or comments, draft or proposed 5-year leasing program, etc., including information from States and local governments, Federal agencies, industry, and others | Not considered an information collection (IC) as defined in 5 CFR 1320.3(h)(4). |  | 0
202-204 | Submit nominations & specific information requested in draft proposed 5-year leasing program, from States and local governments | 4 | 69 | 276
Subtotal |  |  | 69 | 276
Subpart C
301; 302 | Submit response & specific information requested in requests for industry interest and calls for information and nominations, etc., on areas proposed for leasing; including information from States and local governments | Not considered IC as defined in 5 CFR 1320.3(h)(4). |  | 0
302(d) | Request summary of interest (nonproprietary information) for calls for information and requests for interest, etc | 1 | 5 | 5
305; 306 | States or local governments submit comments, recommendations, other responses on size, timing, or location of proposed lease sale. Request extension; enter agreement | 4 | 25 | 100
Subtotal |  |  | 30 | 105
Subpart D
400-402; 405 | Establish file for qualification; submit evidence and certification for lessee and bidder qualification. Provide updates; obtain BOEM approval & qualification number | 2 | 107 | 214
403(c) | Request hearing on disqualification | Requirement not considered IC under 5 CFR 1320.3(h)(9). |  | 0
403; 404 | Notify BOEM if you or your principals are excluded, disqualified, or convicted of a crime—Federal non- procurement debarment and suspension requirements; request exception; enter transaction | 1.5 | 50 | 75
405 | Notify BOEM of all mergers, name changes, or change of business | Requirement not considered IC under 5 CFR 1320.3(h)(1). |  | 0
Subtotal |  |  | 157 | 289
Subpart E
500; 501 | Submit bids, deposits, and required information, including GDIS & maps; in manner specified. Make data available to BOEM | 5 | 2,000 | 10,000
500(e); 517 | Request reconsideration of bid decision | Requirement not considered IC under 5 CFR 1320.3(h)(9). |  | 0
501(e) | Apply for reimbursement | Burden covered in OMB Control Number 1010-0048, 30 CFR 551. |  | 0
511(b); 517 | Submit appeal of listing on restricted joint bidders list; appeal bid decision | Requirement not considered IC under 5 CFR 1320.3(h)(9). |  | 0
513; 514 | File statement and detailed report of production. Make documents available to BOEM | 2 | 100 | 200
515 | Request exemption from bidding restrictions; submit appropriate information | Requirement not considered IC under 5 CFR 1320.3(h)(9). |  | 0
516 | File agreement on determination of lessee following BOEM's notice of tie bid | 3.5 | 2 | 7
520; 521; 600(c) | Execute lease (includes submission of evidence of authorized agent, completion of steps leading to lease execution, and request adjusted effective date of lease); submit required data and rental | 1 | 852 | 852
520(b) | Provide acceptable bond for payment of a deferred bonus | 0.25 | 1 | 1
Subtotal |  |  | 2,955 | 11,060
Subparts F, G, H
700-716 | File application and required information for assignment or transfer of record title or any other lease interest (Form BOEM-0150) (includes sale, sublease, segregation exchange, transfer); request effective date and confidentiality; provide notifications. ** | 1 | 1,414 | 1,414
|  | $198 fee × 1,414 forms = $279,972
715(a); 808(a) | File required instruments creating or transferring working interests, etc., for record purposes. ** | 1 | 2,369 | 2,369
|  | $29 fee × 2,369 filings = $68,701
715(b); 808(b) | Submit “non-required” documents, for record purposes that respondents want BOEM to file with the lease document. (Accepted on behalf of lessees as a service; BOEM does not require nor need them.) | .25 | 11,518 | 2,880
|  | $29 fee × 11,518 filings = $334,022
800-810 | File application and required information for assignment or transfer of operating interest (Form BOEM-0151) (includes sale, sublease, segregation exchange, severance, transfer); request effective date; provide notifications. ** | 1 | 421 | 421
|  | $198 fee × 421 forms = $83,358
Subtotal |  |  | 15,722 | 7,084
| $766,053
Subpart I
900(a)-(e); 901; 902; 903(a) | Submit form for OCS mineral lessee's and operator's bond (Form BOEM-2028); execute bond | 0.33 | 135 | 45
900(c), (d), (f), (g); 901(c), (d), (f); 902(e) | Demonstrate financial worth and ability to carry out present and future financial obligations, request approval of another form of security, or request reduction in amount of supplemental bond required on BOEM-approved forms. Monitor and submit required information | 3.5 | 166 | 581
900(e); 901; 902; 903(a) | Submit form for OCS mineral lessee's and operator's supplemental plugging & abandonment bond (Form BOEM-2028A); execute bond | 0.25 | 141 | 35
900(f), (g) | Submit authority for Regional Director to sell Treasury or alternate type of securities | 2 | 12 | 24
901 | Submit exploration plan, development and production plan, development operations coordination document | IC burden covered in separate approved collection for 1010-0151, 30 CFR part 550, subpart B. |  | 0
901(f) | Submit oral/written comment on adjusted bond amount and information | Requirement not considered IC under 5 CFR 1320.3(h)(9). |  | 0
903(b) | Notify BOEM of any lapse in bond coverage and action filed alleging lessee, surety, or guarantor is insolvent or bankrupt | 1 | 4 | 4
904 | Provide plan and instructions to fund lease-specific abandonment account and related information; request approval to withdraw funds | 12 | 2 | 24
905 | Provide third-party guarantee, indemnity agreement, financial and required information, related notices, reports, and annual update; notify BOEM if guarantor becomes unqualified | 19 | 46 | 874
905(d)(3); 906 | Provide notice of and request approval to terminate period of liability, cancel bond, or other security; provide required information | 0.5 | 378 | 189
907(c)(2) | Provide information to demonstrate lease will be brought into compliance | 16 | 5 | 80
Subtotal |  |  | 889 | 1,856
Subpart K
1101 | Request relinquishment (Form BOEM-0152) of lease; submit required information | 1 | 247 | 247
1102 | Request additional time to bring lease into compliance | 1 | 1 | 1
1102(c) | Comment on cancellation. | Requirement not considered IC under 5 CFR 1320.3(h)(9). |  | 0
Subtotal |  |  | 248 | 248
30 CFR 556 Total |  |  | 20,970 | 21,110
|  | $766,053 Non-Hour Cost Burdens

30 CFR Part 560 | Reporting requirement * | Hour burden | Average number of annual responses | Annual burden hours
560.224(a) | Request BOEM to reconsider field assignment of a lease | Requirement not considered IC under 5 CFR 1320.3(h)(9) |  | 0
560.500 | Submit required documentation electronically through BOEM-approved system; comply with filing specifications, as directed by notice in the Federal Register (e.g., bonding info.) | 1 | 800 | 800
30 CFR 560 Total |  |  | 800 | 800
Total Reporting for Collection |  |  | 21,826 | 21,935
|  |  | $766,053 Non-Hour Cost Burdens
* In the future, BOEM may require electronic filing of certain submissions.
** Cost recovery/service fees.
—For requests of approval for various operations or submission of plans or applications, the burdens are included with other OMB-approved collections: for BOEM, 30 CFR part 550 (subpart A, Control Number 1010-0114; subpart B, Control Number 1010-0151); and for BSEE, 30 CFR part 250 (subpart A, Control Number 1014-0022; subpart D, Control Number 1014-0018).
—All submission for designation of operator (Form BOEM-1123) under 30 CFR parts 550, 556, and 560 are captured in OMB Control Number 1010-0114.

A Federal Register notice with a 60-day public comment period on this proposed ICR was published on May 24, 2022 (87 FR 31576). BOEM did not receive any comments during the 60-day comment period.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record and will be available for public review on www.reginfo.gov. You should be aware that your entire comment—including your address, phone number, email address, or other personally identifiable information included in your comment—may be made publicly available. Even if BOEM withholds your information in the context of this ICR, your comment is subject to the Freedom of Information Act (FOIA). If your comment is requested under the FOIA, your information will only be withheld if BOEM determines that a FOIA exemption to disclosure applies. BOEM will make such a determination in accordance with the Department of the Interior's (DOI) FOIA regulations and applicable law.

In order for BOEM to consider withholding from disclosure your personally identifiable information, you must identify, in a cover letter, any information contained in your comments that, if released, would constitute a clearly unwarranted invasion of your personal privacy. You must also briefly describe any possible harmful consequence of the disclosure of information, such as embarrassment, injury, or other harm.

Note that BOEM will make available for public inspection all comments on www.reginfo.gov, in their entirety, submitted by organizations and businesses or by individuals identifying themselves as representatives of organizations or businesses.

BOEM protects proprietary information in accordance with FOIA (5 U.S.C. 552), DOI's implementing regulations (43 CFR part 2), and 30 CFR parts 550 and 552 promulgated pursuant to the Outer Continental Shelf Lands Act (43 U.S.C. 1352(c)).

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2022-22344 Filed 10-13-22; 8:45 am]

BILLING CODE 4310-MR-P